DEPARTMENT OF HOMELAND SECURITY

Coast Guard

33 CFR Part 165

[CGD01-03-025]

RIN 1625-AA00

Safety Zone; Coast Guard Station Fire Island, Fire Island, NY

AGENCY: Coast Guard, DHS.

ACTION: Final rule.

SUMMARY: The Coast Guard is establishing a safety zone in the waters adjacent to Coast Guard Station Fire Island, Fire Island, New York. This zone ensures safety of the boating community and Coast Guard vessels when prompt response is needed for Coast Guard vessels to respond to mariners' or other requests for assistance. This zone excludes all vessels from operating within the prescribed safety zone without first obtaining authorization from the Captain of the Port, Long Island Sound.

DATES: This rule is effective May 15, 2004.

ADDRESSES: Comments and material received from the public, as well as documents indicated in this preamble as being available in the docket, are part of docket CGD01-03-025 and are available for inspection or copying at Group/MSO Long Island Sound, New Haven, CT, between 9 a.m. and 3 p.m., Monday through Friday, except Federal holidays.

FOR FURTHER INFORMATION CONTACT: Lieutenant A. Logman, Waterways Management Officer, Coast Guard Group/Marine Safety Office Long Island Sound at (203) 468-4429.

SUPPLEMENTARY INFORMATION:

Regulatory Information

On February 10, 2004, we published a notice of proposed rulemaking (NPRM) entitled “Safety Zone; Coast Guard Station Fire Island, Fire Island, NY” in the Federal Register (69 FR 6221). Good cause exists for making this rule effective in less than 30 days after publication. Throughout the summer months and fishing season, the waters immediately surrounding the Station and within a quarter mile radius of the Station become heavily congested with vessels, mainly consisting of recreational boaters. Any delay in implementing this zone would be contrary to the public interest as the accumulation of vessels immediately in front of the station presents a continuous hindrance to the safety of Coast Guard vessels responding to search and rescue or other maritime emergencies and hampers their ability to respond expeditiously. Any delay in implementing this zone would create unnecessary risk for Coast Guard vessels responding to maritime emergencies well into the boating season when there is an increased occurrence of search and rescue and other maritime emergencies. No public hearing was requested, and none was held.

Background and Purpose

United States Coast Guard Station (STA) Fire Island is located in Babylon, New York, on the northern shore of Fire Island, Long Island, New York. The waters north of the Station, Fire Island Inlet, attract numerous recreational and small charter fishing vessels from May through October. Throughout the summer months and fishing season, the waters immediately surrounding the Station and within a quarter mile radius of the Station become heavily congested with vessels, mainly consisting of recreational boaters. The congestion affects the Station in that vessels accumulate immediately in front of it and within the immediate waterway the Coast Guard utilizes to respond to maritime emergency response. The increased vessel congestion during the boating season presents a continuous hindrance to the safety of Coast Guard vessels responding to search and rescue or other maritime emergencies, and hampers their ability to respond expeditiously. This safety zone is established by reference to coordinates, representing approximately 100 yards seaward from STA Fire Island vessels, facilities and property.

This safety zone has been tailored to fit the needs of safety, while minimizing the impact on the maritime community. All coordinates are North American Datum 1983.

No person or vessel may enter or remain in a prescribed safety zone for any time without the permission of the COTP. Each person or vessel in a safety zone shall obey any direction or order of the COTP or designated on-scene Coast Guard patrol personnel. COTP designated on-scene patrol personnel include commissioned, warrant, and petty officers of the Coast Guard on board Coast Guard, Coast Guard Auxiliary, and local, state, and federal law enforcement vessels.

Any violation of this safety zone is punishable by, among others, civil and criminal penalties, including in rem liability against the offending vessel as well as license sanctions against the mariner. This regulation is promulgated under the authority contained in 33 U.S.C. 1223 and 1225 and the regulations promulgated thereunder.

Discussion of Comments and Changes

We received no comments on the proposed rule. Three changes have been made to the regulatory text. The first changed the format of a coordinate listed in the proposed safety zone. The proposed language had the coordinate listed as 40-37.612 N, 073°, 15.664′ W. For consistency among the coordinates listed in the regulatory text, this coordinate is changed to utilize degrees and minutes symbols, namely to read 40°37.612′ N, 073°,15.664′ W.

The second change further defined the on-scene Coast Guard patrol personnel. On-scene patrol personnel include commissioned, warrant, and petty officers of the Coast Guard on board Coast Guard, Coast Guard Auxiliary, and local, state, and federal law enforcement vessels.

The third change explains how vessels within the safety zone may be hailed to include the siren, lights, or other means from a vessel, other than a Coast Guard vessel, upon which Coast Guard patrol personnel are aboard.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This regulation may have some impact on the public, but these potential impacts will be minimized for the following reasons: the safety zone would encompass only a small portion of Fire Island Inlet allowing sufficient room for vessels to operate or anchor outside of the zone.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of vessels intending to transit or anchor in those portions of Fire Island Inlet covered by the safety zone.

For the reasons outlined in the Regulatory Evaluation section above, this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under subsection 213(a) of the Small Business Regulatory Enforcement Fairness Act of 1996 (Pub. L. 104-121), the Coast Guard wants to assist small entities in understanding this rule so that they can better evaluate its effects on them and participate in the rulemaking. If this rule would affect your small business, organization, or governmental jurisdiction and you have questions concerning its provisions or options for compliance, please call Lieutenant A. Logman, Waterways Management Officer, Group/Marine Safety Office Long Island Sound, at (203) 468-4429.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that, under figure 2-1, paragraph 34(g), of Commandant Instruction M16475.1D, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add § 165.152 to read as follows:

§ 165.152 Coast Guard Station Fire Island, Long Island, New York—safety zone.

(a) Location. The following waters of Fire Island Inlet are a safety zone: Beginning at a point on shore at 40°37.523′ N, 073°15.685′ W; then north to 40°37.593′ N, 073°15.719′ W; then east to 40°37.612′ N, 073°15.664′ W; then east to 40°37.630′ N, 073°15.610′ W; then east to 40°37.641′ N, 073°15.558′ W; then southeast to 40°37.630′ N, 073°15.475′ W; then southeast to 40°37.625′ N, 073-15.369′ W; then southeast to 40°37.627′ N, 073°15.318′ W; then southeast to point on shore at 40°37.565′ N, 073°15.346′ W. All coordinates are North American Datum 1983.

(b) Regulations. (1) The general regulations contained in 33 CFR § 165.23 apply.

(2) All persons and vessels must comply with the Coast Guard Captain of the Port or designated on-scene patrol personnel. On-scene Coast Guard patrol personnel include commissioned, warrant, and petty officers of the Coast Guard on board Coast Guard, Coast Guard Auxiliary, and local, state, and federal law enforcement vessels. Upon being hailed by siren, radio, flashing light or other means from a U.S. Coast Guard vessel or other vessel with on-scene patrol personnel aboard, the operator of the vessel shall proceed as directed.

Dated: April 26, 2004.
Joseph J. Coccia,
Captain, U.S. Coast Guard, Captain of the Port, Long Island Sound.

[FR Doc. 04-10585 Filed 5-10-04; 8:45 am]

BILLING CODE 4910-15-P